DEPARTMENT OF JUSTICE

Antitrust Division

Notice Pursuant to the National Cooperative Research and Production Act of 1993—The Open Group, L.L.C.

Notice is hereby given that, on July 24, 2017, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, AGESIC, Montevideo, URUGUAY; AVTECH Institute of Technology, Shanghai, PEOPLE'S REPUBLIC OF CHINA; Axellience, Lille, FRANCE; Azbil Corporation, Tokyo, JAPAN; Bayer Business Services GmbH, Leverkusen, GERMANY; BusinessNow, Søborg, DENMARK; Bvolve B.V., Amersfoort, THE NETHERLANDS; Crossfield Technology, LLC, Austin, TX; Depaus Holding B.V., Amsterdam, THE NETHERLANDS; Elma Electronic, Inc., Fremont, CA; Hargrove Controls + Automation, LLC, Mobile, AL; Jemmac Software Ltd., Cranfield, UNITED KINGDOM; Kepner-Tregoe, Inc., Princeton, NJ; Mentoris Group S.A.C., San Borja, PERU; PDM Technology Services Pty. Ltd., Midrand, SOUTH AFRICA; Semantic Designs, Inc., Austin, TX; Softing Industrial Automation GmbH, Haar, GERMANY; TOTAL S.A., Paris La Défense, FRANCE; and Xuenn Private Limited, Taipei City, TAIWAN, have been added as parties to this venture.

Also, Agency for Public Management and eGovernment (DFII), Oslo, NORWAY; Alithya Services Conseils, Inc., Quebec, CANADA; BAE Systems, Electronics & Integrated Solutions (E&IS), Wayne, NJ; Centre for Software Reliability, City University, London, UNITED KINGDOM; Drovecrest Ltd., Hedgerley, UNITED KINGDOM; Emerson Process Management LLLP, Round Rock, TX; Hotel Technology Next Generation, Shaumburg, IL; iCMG Private Limited, Bangalore, INDIA; Informatica Corporation, Redwood City, CA; Information Systems Audit and Control Association, Inc., Rolling Meadows, IL; Infovide-Matrix SA, Warsaw, POLAND; Marriott International, Bethesda, MD; Maryville Data Systems, Inc., St. Louis, MO; Optimal Business Growth Ltd., Poole, UNITED KINGDOM; PLANAD Consultoria em Gestão Empresarial Ltda-ME, São Paulo, BRAZIL; The Organization Zone LLC, San Jose, CA; and University of Warwick, Coventry, UNITED KINGDOM, have withdrawn as parties to this venture.

In addition, Aviation Industry Corporation of China Information Technology AVICIT has changed its name to AVIC DIGITAL CORPORATION LTD., Beijing, PEOPLE'S REPUBLIC OF CHINA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 11, 2017. A notice was published in the Federal Register pursuant to Section 6(b) of the Act on June 7, 2017 (82 FR 26513).

Patricia A. Brink,
Director of Civil Enforcement, Antitrust Division.

[FR Doc. 2017-17333 Filed 8-15-17; 8:45 am]

BILLING CODE P